NUCLEAR REGULATORY COMMISSION

[Docket No. 50-0320; NRC-2024-0050]

Draft Programmatic Agreement: TMI-2SOLUTIONS, LLC; Three Mile Island Nuclear Station, Unit No. 2

AGENCY: Nuclear Regulatory Commission.

ACTION: Notice; request for comment.

SUMMARY: The U.S. Nuclear Regulatory Commission (NRC) is requesting comment on a draft Programmatic Agreement (PA) between the NRC, Pennsylvania State Historic Preservation Office (SHPO), and TMI-2 Energy Solutions (TMI-2Solutions). The purpose of this draft PA is to resolve any adverse effects to historic properties identified during consultation for a license amendment request for the Three Mile Island Nuclear Station, Unit No. 2 (TMI-2), located in Londonderry Township, Dauphin County, Pennsylvania. TMI-2Solutions will be engaging in certain major decommissioning activities, including the physical demolition of buildings previously deemed eligible for the National Register of Historic Places (NRHP). Because the impacts on the historic properties from these decommissioning activities have not been previously evaluated and are not bounded by NUREG-0586, “Final Generic Environmental Impact Statement (GEIS) on Decommissioning of Nuclear Facilities”, the NRC initiated consultation under the National Historic Preservation Act (NHPA). During the NHPA section 106 consultation, it was determined that there would be adverse effects to historic properties and a PA was developed to address resolution of adverse effects.

DATES: Submit comments by April 5, 2024. Comments received after this date will be considered if it is practical to do so, but the NRC is able to ensure consideration only for comments received on or before this date.

ADDRESSES: You may submit comments by any of the following methods; however, the NRC encourages electronic comment submission through the Federal rulemaking website:

• Federal rulemaking website: Go to https://www.regulations.gov and search for Docket ID NRC-2024-0050. Address questions about Docket IDs to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

• Email comments to: TMI2Environmental@nrc.gov.

For additional direction on obtaining information and submitting comments, see “Obtaining Information and Submitting Comments” in the SUPPLEMENTARY INFORMATION section of this document.

FOR FURTHER INFORMATION CONTACT: Jean Trefethen, Office of Nuclear Material Safety and Safeguards, U.S. Nuclear Regulatory Commission, Washington, DC 20555-0001, telephone: 301-415-0867; email: Jean.Trefethen@nrc.gov.

SUPPLEMENTARY INFORMATION:

I. Obtaining Information and Submitting Comments

A. Obtaining Information

Please refer to Docket ID NRC-2024-0050 when contacting the NRC about the availability of information regarding this action. You may obtain publicly available information related to this action by the following methods:

• Federal Rulemaking Website: Go to https://www.regulations.gov and search for Docket ID NRC-2024-0050.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Project Website: Information related to the TMI-2 project can be accessed on NRC's TMI-2 public website at https://www.nrc.gov/info-finder/decommissioning/power-reactor/three-mile-island-unit-2.html, under the section titled “2.0 Site Status Summary,” scroll down to “Environmental Review of Cultural and Historic Resource Impacts from Decommissioning Activities” and click on draft Programmatic Agreement, Draft Report for Comment.

B. Submitting Comments

The NRC encourages electronic comment submission through the Federal Rulemaking website (https://www.regulations.gov). Please include Docket ID NRC-2024-0050 in the subject line of your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

By letter dated February 22, 2023 (ADAMS Accession No. ML23058A064), TMI-2Solutions requested an amendment to Possession Only License No. DPR-73. TMI-2Solutions will be engaging in certain major decommissioning activities, including the physical demolition of buildings previously deemed eligible for the National Register of Historic Places (NRHP). Paragraph 50.82(a)(6)(ii) of title 10 of the Code of Federal Regulations (10 CFR) states that licensees shall not perform any decommissioning activities that would result in significant environmental impacts that have not been previously reviewed. Adverse impacts, such as certain alterations or demolition to structures that have been deemed eligible for listing on the NRHP, could be considered unreviewed significant environmental impacts under 10 CFR 50.82(a)(6)(ii). Because the impacts on the historic properties from TMI-2Solutions' proposed decommissioning activities have not been previously evaluated, TMI-2Solutions requested an amendment to evaluate the impacts of the decommissioning activities on the NRHP-eligible properties.

The NRC uses its National Environmental Policy Act process for developing environmental assessments (EAs) to facilitate consultation under section 106 of the National Historic Preservation Act (NHPA), pursuant to 36 CFR 800.8.

The NRC met with the Advisory Council on Historic Preservation, the Pennsylvania State Historic Preservation Officer (SHPO), TMI-2Solutions, and other consulting parties to discuss how to address the adverse effects to historic properties. The parties agreed to develop a PA to resolve any adverse effects. As explained in the PA, once the agreement is executed, the NRC will become the lead agency for implementation of the PA.

The draft PA addresses the potential direct and indirect adverse effects from the decommissioning activities and ensures that appropriate mitigation measures are implemented. The NRC's final EA will include the final PA and therefore conclude NHPA section 106 consultation.

III. Request for Public Comment

The NRC is requesting public comment on the draft PA. The NRC will consider these comments before finalizing the PA, which will be published as an appendix in the final EA. The draft PA is available in ADAMS under Accession No. ML24044A184.

Dated: March 1, 2024.
For the Nuclear Regulatory Commission.
Robert Sun,
Chief, Environmental Project Management Branch 2, Division of Rulemaking, Environmental, and Financial Support, Office of Nuclear Material Safety, and Safeguards.

[FR Doc. 2024-04768 Filed 3-5-24; 8:45 am]

BILLING CODE 7590-01-P